DEPARTMENT OF LABOR

Agency Information Collection Activities; Submission for OMB Review; Comment Request; Reemployment Services and Eligibility Assessment Program

ACTION: Notice of availability; request for comments.

SUMMARY: The Department of Labor (DOL) is submitting this Employment and Training Administration (ETA)-sponsored information collection request (ICR) to the Office of Management and Budget (OMB) for review and approval in accordance with the Paperwork Reduction Act of 1995 (PRA). Public comments on the ICR are invited.

DATES: The OMB will consider all written comments that the agency receives on or before August 25, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Mara Blumenthal by telephone at 202-693-8538, or by email at DOL_PRA_PUBLIC@dol.gov.

SUPPLEMENTARY INFORMATION: The authority to implement this reporting requirement is found in the Social Security Act (SSA) section 303(a)(6), 42 U.S.C. 503(a)(6), which requires that state law include provision for: “the making of such reports, in such form and containing such information, as the Secretary of Labor may from time-to-time require, and compliance with such provisions as the Secretary of Labor may from time- to-time find necessary to assure the correctness and verification of such reports.” The Secretary interprets section 303(a)(6) of the SSA to authorize DOL to prescribe standard definitions, methods and procedures, and reporting requirements for the collection of information on benefit payment accuracy and the reemployment of Unemployment Insurance (UI) benefit recipients and to ensure accuracy and verification of these data. This information is collected through Forms ETA 9128 (Reemployment and Eligibility Assessment Workload) and ETA 9129 (Reemployment Services and Eligibility Assessment Outcomes). For additional substantive information about this ICR, see the related notice published in the Federal Register on November 23, 2021 (86 FR 66593).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-ETA.

Title of Collection: Reemployment Services and Eligibility Assessment Program.

OMB Control Number: 1205-0456.

Affected Public: State, Local, and Tribal Governments.

Total Estimated Number of Respondents: 53.

Total Estimated Number of Responses: 424.

Total Estimated Annual Time Burden: 1,234 hours.

Total Estimated Annual Other Costs Burden: $0.

(Authority: 44 U.S.C. 3507(a)(1)(D))

Dated: July 20, 2022.
Mara Blumenthal,
Senior PRA Analyst.

[FR Doc. 2022-15967 Filed 7-25-22; 8:45 am]

BILLING CODE 4510-FW-P